Proclamation 8474 of January 15, 2010

Religious Freedom Day, 2010

By the President of the United States of America

A Proclamation

Long before our Nation’s independence, weary settlers sought refuge on our shores to escape religious persecution on other continents. Recognizing their strife and toil, it was the genius of America’s forefathers to protect our freedom of religion, including the freedom to practice none at all. Many faiths are now practiced in our Nation’s houses of worship, and that diversity is built upon a rich tradition of religious tolerance. On this day, we commemorate an early realization of our Nation’s founding ideals: Virginia’s 1786 Statute for Religious Freedom.

The Virginia Statute was more than a law. It was a statement of principle, declaring freedom of religion as the natural right of all humanity—not a privilege for any government to give or take away. Penned by Thomas Jefferson and championed in the Virginia legislature by James Madison, it barred compulsory support of any church and ensured the freedom of all people to profess their faith openly, without fear of persecution. Five years later, the First Amendment of our Bill of Rights followed the Virginia Statute’s model, stating, “Congress shall make no law respecting an establishment of religion, or prohibiting the free exercise thereof . . .”.

Our Nation’s enduring commitment to the universal human right of religious freedom extends beyond our borders as we advocate for all who are denied the ability to choose and live their faith. My Administration will continue to oppose growing trends in many parts of the world to restrict religious expression.

Faith can bring us closer to one another, and our freedom to practice our faith and follow our conscience is central to our ability to live in harmony. On Religious Freedom Day, let us pledge our constant support to all who struggle against religious oppression and rededicate ourselves to fostering peace with those whose beliefs differ from our own. In doing so, we reaffirm our common humanity and respect for all people with whom we share a brief moment on this Earth.

NOW, THEREFORE, I, BARACK OBAMA, President of the United States of America, by virtue of the authority vested in me by the Constitution and the laws of the United States, do hereby proclaim January 16, 2010, as Religious Freedom Day. I call on all Americans to commemorate this day with events and activities that teach us about this critical foundation of our Nation’s liberty, and show us how we can protect it for future generations here and around the world.

IN WITNESS WHEREOF, I have hereunto set my hand this fifteenth day of January, in the year of our Lord two thousand ten, and of the Independence of the United States of America the two hundred and thirty-fourth.

[FR Doc. 2010-1369

Filed 1-21-10; 8:45 am]

Billing code 3195-W0-P